DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2010 Census Coverage Measurement Initial Housing Unit Followup.

Form Number(s): D-1303, D-1303(PR), D-1380, D-1380(PR).

OMB Control Number: None.

Type of Request: New collection.

Burden Hours: 22,000.

Number of Respondents: 400,000.

Average Hours per Response: 3 minutes.

Needs and Uses: The U.S. Census Bureau requests authorization from the Office of Management and Budget to conduct the Census Coverage Measurement (CCM) Initial Housing Unit Followup Operation as part of the 2010 Census. The 2010 CCM Initial Housing Unit Followup Operation will be conducted in the U.S. (excluding remote Alaska) and in Puerto Rico in selected CCM sampled areas. As in the past, the CCM operations and activities will be conducted independent of and will not influence the 2010 Census operations.

The 2010 CCM will be comprised of two samples selected to measure census coverage of housing units and the household population: the population sample (P sample) and the enumeration sample (E sample). The primary sampling unit is a block cluster, which consists of one or more contiguous census blocks. The P sample is a sample of housing units and persons in CCM block clusters obtained independently from the census. The E sample is a sample of census housing units and enumerations in the same block cluster as the P sample. The independent roster of housing units is obtained during the CCM Independent Listing, the results of which will be matched to census housing units in the sample block clusters and surrounding blocks. Discrepancies between the CCM Independent Listing and census housing unit matching are followed up in Initial Housing Unit Followup. A separate OMB package was submitted for the CCM Independent Listing operation, and additional OMB packages will be submitted for subsequent CCM field operations.

CCM will be conducted for the 2010 Census to provide estimates of net coverage error and components of coverage error (for omissions and erroneous enumerations) for housing units and persons in housing units (see Definition of Terms in Part B) to improve future censuses. The data collection and matching methodologies for previous coverage measurement programs were designed only to measure net coverage error, which measures the net difference between omissions and erroneous inclusions. In 2010, the CCM will classify omissions and erroneous census enumerations according to several classifications.

During CCM Initial Housing Unit Followup, interviewers collect additional information for addresses unresolved after matching operations. The CCM Initial Housing Unit Followup operation attempts to collect additional information that might allow a resolution of match/nonmatched codes for addresses in the CCM Independent Listing and the census address list, including whether occupied or vacant, and also to resolve potential duplicates. This operation will also determine the housing unit/group quarters status for living quarters flagged during the CCM Independent Listing operation. The Initial Housing Unit Followup data collection form will be created via DocuPrint technology. The questions included for each followup case will vary depending upon the reason the address is being sent to followup.

Affected Public: Individuals or households.

Frequency: One time.

Respondent's Obligation: Mandatory.

Legal Authority: Title 13, United States Code, Sections 141 and 193

OMB Desk Officer: Brian Harris-Kojetin, (202) 395-7314.

Copies of the above information collection proposal can be obtained by calling or writing Diana Hynek, Departmental Paperwork Clearance Officer, (202) 482-0266, Department of Commerce, Room 7845, 14th and Constitution Avenue, NW., Washington, DC 20230 (or via the Internet at dhynek@doc.gov).

Written comments and recommendations for the proposed information collection should be sent within 30 days of publication of this notice to Brian Harris-Kojetin, OMB Desk Officer, either by fax (202-395-7245) or e-mail (bharrisk@omb.eop.gov).

Dated: June 23, 2009.
Glenna Mickelson,
Management Analyst, Office of the Chief Information Officer.

[FR Doc. E9-15209 Filed 6-25-09; 8:45 am]

BILLING CODE 3510-07-P